DEPARTMENT OF ENERGY

Federal Energy Regulatory Commission

[Project No. 308-007]

PacifiCorp Energy; Notice of Application Ready for Environmental Analysis, and Soliciting Comments, Recommendations, Preliminary Terms and Conditions, and Preliminary Fishway Prescriptions

Take notice that the following hydroelectric application has been filed with the Commission and is available for public inspection.

a. Type of Application: Subsequent License (Minor Project).

b. Project No.: 308-007.

c. Date filed: February 28, 2014.

d. Applicant: PacifiCorp Energy (PacifiCorp).

e. Name of Project: Wallowa Falls Hydroelectric Project.

f. Location: The existing project is located on Royal Purple Creek and the East and West Forks of the Wallowa River in Wallowa County, Oregon. The project would occupy 12.7 acres of federal land managed by the United States Forest Service.

g. Filed Pursuant to: Federal Power Act 16 U.S.C. 791 (a)-825 (r).

h. Applicant Contact: Russ Howison, Relicensing Project Manager, PacifiCorp Energy, 825 NE Multnomah, Suite 1500, Portland, OR 97232; Telephone (503) 813-6626.

i. FERC Contact: Matt Cutlip, (503) 552-2762 or matt.cutlip@ferc.gov.

j. Deadline for filing comments, recommendations, preliminary terms and conditions, and preliminary prescriptions: 60 days from the issuance date of this notice; reply comments are due 105 days from the issuance date of this notice.

The Commission strongly encourages electronic filing. Please file comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-308-007.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The existing Wallowa Falls Hydroelectric Project consists of the following existing facilities: (1) A 2-foot-high, 9-foot-long concrete diversion dam with a 1-foot-wide spillway on Royal Purple Creek; (2) a 240-foot-long, 8-inch-diameter wood-stave and polyvinylchloride pipeline conveying water from the Royal Purple Creek diversion dam to an impoundment; (3) an 18-foot-high, 125-foot-long, buttressed rock-filled timber crib dam with impervious gravel and asphalt core and a 30-foot-wide spillway on the East Fork Wallowa River (East Fork); (4) a 0.2-acre impoundment; (5) a 2-foot-high by 2-foot-wide concrete intake structure with a headgate and steel trash rack; (6) a low-level sluiceway with a steel trash rack and cast iron gate connecting to a 2-foot-diameter steel pipe passing through the dam to provide instream flow releases to the bypassed reach; (7) a 5,688-foot-long steel penstock varying in diameter from 24 to 16 inches and consisting of buried sections or above-ground sections supported on timber crib trestles; (8) a powerhouse containing one impulse turbine-generator unit with an installed capacity of 1,100 kilowatts; (9) a 40-foot-long concrete-lined tailrace which conveys powerhouse flows to a 1,000-foot-long unlined and braided tailrace channel discharging into the West Fork Wallowa River (West Fork); (10) a 20-foot-long, 7.2-kilovolt transmission line which connects to the Wallowa Falls substation; and (11) appurtenant facilities.

The project currently generates an average of 7 million kilowatt-hours annually. The dams and existing project facilities are owned by PacifiCorp. The project is operated run-of-river. Up to 1 cubic feet per second (cfs) of flow is diverted from Royal Purple Creek and discharged into the impoundment. Up to 16 cfs of water (i.e., 15 cfs maximum from East Fork and 1 cfs from Royal Purple Creek) is diverted through the intake structure at the East Fork dam into the steel penstock and conveyed to the powerhouse where it flows through the single impulse turbine and discharges through the tailrace into the West Fork. The project's current license requires a minimum instream flow release of 0.5 cfs or inflow, whichever is less, in the bypassed reach. The current license also mandates that PacifiCorp restrict sediment flushing from the impoundment to the period from May 1 to August 30 to protect kokanee salmon.

PacifiCorp proposes to modify the existing facilities by: (1) Extending the existing 8-inch Royal Purple Creek diversion pipe approximately 20 feet to discharge directly into the East Fork upstream of the project impoundment to reduce erosion, (2) realigning the existing tailrace channel and constructing a permanent fish passage barrier and concrete outfall at its confluence with the West Fork to prevent fish from entering the tailrace channel, (3) improving existing and constructing new recreational facilities to enhance recreation in the project area, and (4) installing and operating flow monitoring equipment at the historic U.S. Geological Survey gage in the East Fork bypassed reach to monitor compliance with minimum flows. PacifiCorp also proposes to: Increase the minimum flow release in the bypassed reach to 4 cfs from November through April and 5 cfs from May through October, and modify the sediment management program to only enable sediment flushing during the high-flow month of June.

PacifiCorp proposes to modify the project boundary by adding about 8.4 acres to encompass a total of 26.4 acres of land necessary for project purposes and for operation and maintenance.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

Register online at http://www.ferc.gov/docs-filing/esubscription.asp to be notified via email of new filings and issuances related to this or other pending projects. For assistance, contact FERC Online Support.

n. Procedural Schedule:

The application will be processed according to the following revised Hydro Licensing Schedule. Revisions to the schedule may be made as appropriate.

Milestone | Target date
Filing of recommendations, preliminary terms and conditions, and preliminary fishway prescriptions | May 2015.
Commission issues EA | September 2015.
Comments on EA | October 2015.
Modified terms and conditions | December 2015.

o. Final amendments to the application must be filed with the Commission no later than 30 days from the issuance date of this notice.

p. A license applicant must file no later than 60 days following the date of issuance of the notice of ready for environmental analysis provided for in 5.22: (1) A copy of the water quality certification; (2) a copy of the request for certification, including proof of the date on which the certifying agency received the request; or (3) evidence of waiver of water quality certification.

Dated: March 6, 2015.
Nathaniel J. Davis, Sr.,
Deputy Secretary.

[FR Doc. 2015-05870 Filed 3-13-15; 8:45 am]

BILLING CODE 6717-01-P